DEPARTMENT OF COMMERCE

International Trade Administration

[A-423-805, A-351-817, A-405-802, A-428-816, A-201-809, A-455-802, A-485-803, A-469-803, A-401-805, A-412-814, A-583-080]

Cut-to-Length Carbon Steel Plate From Belgium, Brazil, Finland, Germany, Mexico, Poland, Romania, Spain, Sweden, and the United Kingdom and Carbon Steel Plate From Taiwan; Second Five-year (Sunset) Reviews of Antidumping Duty Orders and Antidumping Finding; Final Results

AGENCY: Import Administration, International Trade Administration, Department of Commerce.

SUMMARY: On November 1, 2005, the Department of Commerce (the Department) initiated sunset reviews of the antidumping duty orders on cut-to-length carbon steel plate (CTL Plate) from Belgium, Brazil, Finland, Germany, Mexico, Poland, Romania, Spain, Sweden, and the United Kingdom and the antidumping finding on carbon steel plate from Taiwan, pursuant to section 751(c) of the Tariff Act of 1930, as amended (the Act). On the basis of the notices of intent to participate and adequate substantive responses filed on behalf of domestic interested parties and no response or inadequate responses from respondent interested parties, the Department conducted expedited sunset reviews of these antidumping duty orders and antidumping finding. As a result of these sunset reviews, the Department finds that revocation of the antidumping duty orders on CTL Plate from Belgium, Brazil, Finland, Germany, Mexico, Poland, Romania, Spain, Sweden, and the United Kingdom and the antidumping finding on carbon steel plate from Taiwan would likely lead to continuation or recurrence of dumping at the levels listed below in the section entitled “Final Results of Sunset Reviews.”

EFFECTIVE DATE: March 8, 2006.

FOR FURTHER INFORMATION CONTACT: Dana Mermelstein, Robert James, or Abdelali Elouaradia, AD/CVD Operations, Office 7, Import Administration, International Trade Administration, U.S. Department of Commerce, 14th Street and Constitution Avenue, NW., Washington, DC, 20230; telephone: (202) 482-1391, (202) 482-0649, or (202) 482-1374, respectively.

SUPPLEMENTARY INFORMATION:

Background

On November 1, 2005, the Department initiated sunset reviews of the antidumping duty orders on CTL Plate from Belgium, Brazil, Finland, Germany, Mexico, Poland, Romania, Spain, Sweden, and the United Kingdom and the antidumping finding on carbon steel plate from Taiwan pursuant to section 751(c) of the Act. See Initiation of Five-year (“Sunset”) Reviews, 70 FR 65844 (November 1, 2005). For each of these orders, the Department received a notice of intent to participate from Nucor Corporation (Nucor), Mittal Steel USA ISG Inc. (Mittal), IPSCO, Inc. (IPSCO), Oregon Steel Mills, Inc. (Oregon Steel), and the United Steel, Paper and Forestry, Rubber, Manufacturing, Energy, Allied Industrial and Service Workers Union, AFL-CIO-CLC (USW) (collectively, domestic interested parties) within the deadline specified in 19 CFR 351.218(d)(1)(i). Domestic interested parties claimed interested party status under sections 771(9)(C) or (D) of the Act either as a U.S. producer of a domestic like product or as a certified union engaged in the manufacture of a domestic like product. With respect to the antidumping duty orders on CTL Plate from Brazil, Finland, Germany, Mexico, Romania, Spain, and Sweden and the antidumping finding on carbon steel plate from Taiwan, we did not receive any responses from respondent interested parties. As a result, pursuant to section 751(c)(3)(B) of the Act and 19 CFR 351.218(e)(1)(ii)(C)(2), the Department conducted expedited sunset reviews of these antidumping duty orders and the antidumping finding. With respect to the antidumping duty orders on CTL Plate from Belgium, Poland, and the United Kingdom, the Department received substantive responses from respondent interested parties within the deadline specified in 19 CFR 351.218(d)(3)(i).¹ However, on December 21, 2005, the Department determined that the substantive responses filed by respondent interested parties were inadequate. Specifically, for the Belgian, Polish, and British orders, the Department found that total exports of the subject merchandise to the United States by participating respondent interested parties were below the 50 percent threshold (by volume) that the Department normally will consider to be an adequate foreign response as provided for in 19 CFR 351.218(e)(1)(ii)(A). Therefore, pursuant to section 751(c)(3)(B) of the Act and 19 CFR 351.218(e)(1)(ii)(C)(2), the Department also conducted expedited sunset reviews of the antidumping duty orders on CTL Plate from Belgium, Poland, and the United Kingdom.

¹ In the case of the Belgian order, one respondent interested party also filed a waiver of participation.

Scope of the Antidumping Duty Orders (CTL Plate from Belgium, Brazil, Finland, Germany, Mexico, Poland, Romania, Spain, Sweden, and the United Kingdom)

The products covered by these antidumping duty orders include hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the United States Harmonized Tariff Schedule (HTSUS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included are flat-rolled products of non-rectangular cross-section where such cross-section is achieved subsequent to the rolling process (i.e., products which have been “worked after rolling”) -- for example, products which have been beveled or rounded at the edges. Excluded is grade X-70 plate. These HTSUS item numbers are provided for convenience and customs purposes. The written description remains dispositive.

As a result of a changed circumstances review with respect to Finland, Germany, and the United Kingdom,² the order was partially revoked with respect to certain cut-to-length carbon steel plate with a maximum thickness of 80 mm in steel grades BS 7191, 355 EM and 355 EMZ, as amended by Sable Offshore Energy Project specification XB MOO Y 15 0001, types 1 and 2.

² See Certain Cut-to-Length Carbon Steel Plate from Finland, Germany and the United Kingdom: Final Results of Changed Circumstances Antidumping Duty and Countervailing Duty Reviews, and Revocation of Orders in Part, 64 FR 46343 (August 25, 1999).

As a result of a decision by the Court of International Trade,³ excluded from the scope of the antidumping duty order on CTL Plate from Belgium is cut-to-length floor plate imported by Duferco Steel, Inc. “with patterns in relief derived directly from the rolling process.”

³ See Duferco Steel, Inc. v. United States, 26 CIT 1241 (October 17, 2002).

Scope of the Antidumping Finding (Carbon Steel Plate from Taiwan)

The merchandise covered by this antidumping finding is hot-rolled carbon steel plate, 0.1875 inch or more in thickness, over 8 inches in width, not in coils, not pickled, not coated or plated with metal, not clad, other than black plate, and not pressed or stamped to nonrectangular shape. The merchandise under review is currently classifiable under items 7208.40.30.30, 7208.40.30.60, 7208.51.00.30, 7208.51.00.45, 7208.51.00.60, 7208.52.00.00, 7208.90.00.00, 7210.70.30.00, 7210.90.90.00, 7211.13.00.00, 7211.14.00.30, 7211.14.00.45, 7211.90.00.00, 7212.40.10.00, 7212.40.50.00, and 7212.50.00.00 of the HTSUS. Although the HTSUS subheading is provided for convenience and customs purposes, the written description of the merchandise under investigation is dispositive.

All issues raised in these sunset reviews are addressed in the “Issues and Decision Memorandum” from Stephen J. Claeys, Deputy Assistant Secretary for Operations, Import Administration, to David M. Spooner, Assistant Secretary for Import Administration, dated March 1, 2006 (Decision Memorandum), which is hereby adopted by this notice. The issues discussed in the Decision Memorandum include the likelihood of continuation or recurrence of dumping and the magnitude of the margin likely to prevail if the orders and finding were revoked. Parties can find a complete discussion of all issues raised in these sunset reviews and the corresponding recommendation in this public memorandum, which is on file in room B-099 of the main Department building.

In addition, a complete version of the Decision Memorandum can be accessed directly on the Internet at http://ia.ita.doc.gov/frn/index.html. The paper copy and electronic version of the Decision Memorandum are identical in content.

Final Results of Sunset Reviews

We determine that revocation of the antidumping duty orders on CTL Plate from Belgium, Brazil, Finland, Germany, Mexico, Poland, Romania, Spain, Sweden, and the United Kingdom and the antidumping finding on carbon steel plate from Taiwan would likely lead to continuation or recurrence of dumping at the following percentage weighted-average margins:

Belgium
Manufacturers/Exporters | Weighted-Average Margin (Percent)
Forges de Clabecq, S.A.⁴ | 6.78
Fabrique de Fer Chaleroi, S.A. (FFC) | 13.31⁵
All Other Belgian Manufacturers and Exporters | 6.84
⁴ The Department has never conducted a changed circumstance review finding that Duferco Clabecq S.A. (Duferco) is the successor-in-interest to Forges de Clabecq, S.A. As a result, Duferco is subject to the all others rate.
⁵ For this sunset review, we have reported the rate calculated from the original investigation for FFC. The Department notes that in the first sunset review it reported to the International Trade Commission (ITC) a margin of 27.5 percent for FFC. See Cut-to-Length Carbon Steel Plate From Belgium; Final Results of Expedited Sunset Review of Antidumping Duty Order, 65 FR 18292 (April 7, 2000) and the accompanying Issues and Decision Memorandum at Comment 2. This rate was based on the 13.75 percent margin found in the 1995-1996 administrative review, doubled to account for a 100 percent finding of duty absorption. As stated in the final results of the first sunset review, the Department reported the 27.5 percent margin “[c]onsistent with our stated policy of providing the Commission the higher of the margin the Department otherwise would have reported to the Commission or the most recent margin for that company adjusted to account for the Department's findings on duty absorption.” See id. However, on March 22, 2000, the CIT found that the Department lacked authority to conduct a duty absorption inquiry for an antidumping order issued prior to January 1, 1995. See SKF USA Inc. v. United States, 24 CIT 174 (CIT 2000). Therefore, we are reporting to the ITC the higher calculated rate from the original investigation and we find that there is no basis to provide to the ITC a more recently calculated margin. See Decision Memorandum at 25-26.

Brazil
Manufacturers/Exporters | Weighted-Average Margin (Percent)
Usinas Siderurgicas de Minas Gerais S.A. (USIMINAS)/Companhia Siderurgica Paulista (COSIPA) | 42.68⁶
All Other Brazilian Manufacturers and Exporters | 75.54
⁶ In the first sunset review of CTL Plate from Brazil, the Department reported one margin for USIMINAS and COSIPA because the Department had collapsed these companies and treated them as a single entity in the most recently completed administrative review. See Certain Cut-to-Length Carbon Steel Plate from Brazil: Amendment of Final Results of Antidumping Duty Administrative Review, 63 FR 20570 (April 27, 1998). Thus, we are reporting a single margin to the ITC for the two entities as we did in the first sunset review. See Decision Memorandum at 26.

Finland
Manufacturers/Exporters | Weighted-Average Margin (Percent)
Rautaruukki Oy | 40.36
All Other Finnish Manufacturers and Exporters | 40.36

Germany
Manufacturers/Exporters | Weighted-Average Margin (Percent)
Dillenger Huttenwerke | 36.00
All Other German Manufacturers and Exporters | 36.00

Mexico
Manufacturers/Exporters | Weighted-Average Margin (Percent)
Altos Hornos de Mexico, S.A. de C.V. | 49.25
All Other Mexican Manufacturers and Exporters | 49.25

Poland
Manufacturers/Exporters | Weighted-Average Margin (Percent)
All Polish Manufacturers and Exporters | 61.98

Romania
Manufacturers/Exporters | Weighted-Average Margin (Percent)
Metalexportimport SA | 75.04
All Other Romanian Manufacturers and Exporters | 75.04

Spain
Manufacturers/Exporters | Weighted-Average Margin (Percent)
Ensidesa | 105.61
All Other Spanish Manufacturers and Exporters | 105.61

Sweden
Manufacturers/Exporters | Weighted-Average Margin (Percent)
Svenskt Staal ABC | 24.23
All Other Swedish Manufacturers and Exporters | 24.23

Taiwan
Manufacturers/Exporters | Weighted-Average Margin (Percent)
China Steel Corporation | 34.00
All Other Taiwanese Manufacturers and Exporters | 34.00

United Kingdom
Manufacturers/Exporters | Weighted-Average Margin (Percent)
British Steel plc ⁷ | 109.22
All Other British Manufacturers and Exporters | 109.22
⁷ The Department has never conducted a changed circumstance review finding that Corus Group plc (Corus) is the successor-in-interest to British Steel plc. Therefore, Corus is subject to the “all others” rate.

This notice also serves as the only reminder to parties subject to administrative protective orders (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: March 1, 2006.
David M. Spooner,
Assistant Secretary for Import Administration.

[FR Doc. E6-3297 Filed 3-7-06; 8:45 am]

BILLING CODE 3510-DS-S